NATIONAL FOUNDATION ON THE ARTS AND THE HUMANITIES

National Endowment for the Arts; Arts Advisory Panel

Pursuant to Section 10(a)(2) of the Federal Advisory Committee Act (Pub. L. 92-463), as amended, notice is hereby given that six meetings of the Arts Advisory Panel (Arts Education section, Learning in the Arts for Children & Youth category) to the National Council on the Arts will be held at the Nancy Hanks Center, 1100 Pennsylvania Avenue, NW., Washington, DC 20506 as follows:

Panel A1: October 11, 2004, Room 716). A portion of this meeting, from 3 p.m. to 3:45 p.m., will be for policy discussion and will be open to the public. The remainder of the meeting, from 9 a.m. to 3 p.m. and from 3:45 p.m. to 4:15 p.m., will be closed.

Panel A2: October 12-13, 2004, Room 716. A portion of this meeting, from 4 p.m. to 4:45 p.m. on October 13th, will be for policy discussion and will be open to the public. The remainder of the meeting, from 9 a.m. to 6 p.m. on October 12th, and from 9 a.m. to 4 p.m., and 4:45 p.m. to 5:30 p.m. on October 13th, will be closed.

Panel A3: October 14-15, 2004, Room 716. A portion of this meeting, from 4 p.m. to 4:45 p.m. on October 15th, will be for policy discussion and will be open to the public. The remainder of the meeting, from 9 a.m. to 6:15 p.m. on October 14th, and from 8:30 a.m. to 4 p.m., and 4:45 p.m. to 5:30 p.m. on October 15th, will be closed.

Panel B1: October 18-19, 2004, Room 716. A portion of this meeting, from 4:45 p.m. to 5:15 p.m. on October 19th, will be for policy discussion and will be open to the public. The remainder of the meeting, from 9 a.m. to 6 p.m. on October 18th, and from 9 a.m. to 4:45 p.m., and 5:15 p.m. to 6 p.m. on October 19th, will be closed.

Panel C1: October 20-21, 2004, Room 716. A portion of this meeting, from 4 p.m. to 4:45 p.m. on October 21st, will be for policy discussion and will be open to the public. The remainder of the meeting, from 9 a.m. to 6 p.m. on October 20th, and from 9 a.m. to 4 p.m., and 4:45 p.m. to 5:30 p.m. on October 21st, will be closed.

Panel B2: October 25-26, 2004, Room 716. A portion of this meeting, from 4:45 p.m. to 5:15 p.m. on October 26th, will be for policy discussion and will be open to the public. The remainder of the meeting, from 9 a.m. to 6:30 p.m. on October 25th, and from 9 a.m. to 4:45 p.m., and 5:15 p.m. to 6 p.m. on October 26th, will be closed.

The closed portions of meetings are for the purpose of Panel review, discussion, evaluation, and recommendation on applications for financial assistance under the National Foundation on the Arts and the Humanities Act of 1965, as amended, including information given in confidence to the agency by grant applicants. In accordance with the determination of the Chairman of April 14, 2004, these sessions will be closed to the public pursuant to subsection (c) (6) of 5 U.S.C. 552b.

Any person may observe meetings, or portions thereof, of advisory panels that are open to the public, and if time allows, may be permitted to participate in the panel's discussions at the discretion of the panel chairman.

If you need special accommodations due to a disability, please contact the Office of AccessAbility, National Endowment for the Arts, 1100 Pennsylvania Avenue, NW., Washington, DC 20506, (202) 682-5532, TDY-TDD (202) 682-5496, at least seven (7) days prior to the meeting.

Further information with reference to these meetings can be obtained from Ms. Kathy Plowitz-Worden, Office of Guidelines & Panel Operations, National Endowment for the Arts, Washington, DC, 20506, or call (202) 682-5691.

Dated: September 22, 2004.
Kathy Plowitz-Worden,
Panel Coordinator, Panel Operations, National Endowment for the Arts.

[FR Doc. 04-21620 Filed 9-27-04; 8:45 am]

BILLING CODE 7537-01-P